DEPARTMENT OF HEALTH AND HUMAN SERVICES

Centers for Disease Control and Prevention

Solicitation of Nominations for Appointment to the Interagency Committee on Smoking and Health (ICSH)

ACTION: Notice.

SUMMARY: The Centers for Disease Control and Prevention (CDC) is seeking nominations for membership on the ICSH. The ICSH consists of five public members, as deemed by statute, that represent private entities involved in informing the public about the health effects of smoking.

DATES: Nominations for membership on the ICSH must be received no later than October 22, 2021. Packages received after this time will not be considered for the current membership cycle.

ADDRESSES: All nominations should be emailed to Jade Chambers Blair, Office on Smoking and Health, National Center for Chronic Disease Prevention and Health Promotion (NCCDPHP), CDC, to JChambersBlair@cdc.gov.

FOR FURTHER INFORMATION CONTACT: Kathy Gallagher, Designated Federal Official, ICSH, Office on Smoking and Health, NCCDPHP, CDC, 1600 Clifton Road NE, Atlanta, Georgia 30329-4027, Telephone: (404) 639-6358, or email at KGallagher@cdc.gov.

SUPPLEMENTARY INFORMATION: Nominations are being sought for individuals who have expertise and qualifications necessary to contribute to the accomplishments of the committee's objectives. Nominees will be selected based on expertise in the fields of the health effects of smoking. Additionally, desirable qualifications include: (1) Knowledge of evidence based and emerging commercial tobacco control policies as well as experience in analyzing, evaluating, and interpreting Federal, State and/or local health or regulatory policy; and/or (2) familiarity and expertise in developing or contributing to the development of policies and/or programs to advance health equity by identifying and eliminating commercial tobacco product related inequities and disparities; (3) knowledge of the intersection of behavioral health conditions (mental health and/or substance use disorders) and commercial tobacco use/tobacco control and/or (4) familiarity and expertise with the treatment of commercial tobacco use and dependence, particularly with respect to developing or contributing to interventions for reducing tobacco-related disparities and inequities in the United States. Federal employees will not be considered for membership. Members may be invited to serve for four-year terms.

Selection of members is based on candidates' qualifications to contribute to the accomplishment of ICSH objectives https://www.cdc.gov/tobacco/about/icsh/index.htm.

The U.S. Department of Health and Human Services policy stipulates that committee membership be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government. Current participation on federal workgroups or prior experience serving on a federal advisory committee does not disqualify a candidate; however, HHS policy is to avoid excessive individual service on advisory committees and multiple committee memberships. Committee members are Special Government Employees, requiring the filing of financial disclosure reports at the beginning and annually during their terms. CDC reviews potential candidates for ICSH membership each year and provides a slate of nominees for consideration to the Secretary of HHS for final selection. HHS notifies selected candidates of their appointment near the start of the term in July 2022, or as soon as the HHS selection process is completed. Note that the need for different expertise varies from year to year and a candidate who is not selected in one year may be reconsidered in a subsequent year.

Candidates should submit the following items:

Current curriculum vitae, including complete contact information (telephone numbers, mailing address, email address).

At least one letter of recommendation from person(s) not employed by the U.S. Department of Health and Human Services. (Candidates may submit letter(s) from current HHS employees if they wish, but at least one letter must be submitted by a person not employed by an HHS agency (e.g., CDC, NIH, FDA, etc.).

Nominations may be submitted by the candidate him- or herself, or by the person/organization recommending the candidate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-20920 Filed 9-24-21; 8:45 am]

BILLING CODE 4163-18-P